CENTRAL INTELLIGENCE AGENCY

32 CFR Part 1900

Freedom of Information Act Regulations

AGENCY: Central Intelligence Agency.

ACTION: Proposed rule.

SUMMARY: Consistent with the Freedom of Information Act (FOIA), as amended by the “Openness Promotes Effectiveness in our National Government Act of 2007,” and Executive Orders 13526 and 13392, the Central Intelligence Agency (CIA) has undertaken and completed a review of its public FOIA regulations that govern certain aspects of its processing of FOIA requests. As a result of this review, the Agency proposes to revise its FOIA regulations to more clearly reflect the current CIA organizational structure, record system configuration, and FOIA policies and practices and to eliminate ambiguous, redundant and obsolete regulatory provisions. As required by the FOIA, the Agency is providing an opportunity for interested persons to submit comments on these proposed regulations.

DATES: Submit comments on or before November 22, 2011.

ADDRESSES: Submit comments to the Director, Information Management Services, Central Intelligence Agency, Washington, DC 20505 or fax to (703) 613-3020.

FOR FURTHER INFORMATION CONTACT: Joseph W. Lambert, (703) 613-1379.

SUPPLEMENTARY INFORMATION: Consistent with the Freedom of Information Act (FOIA), as amended by the “Openness Promotes Effectiveness in our National Government Act of 2007,” and Executive Order 13392, the CIA has undertaken and completed a review of its public FOIA regulations that govern certain aspects of its processing of FOIA requests. As a result of this review, the Agency proposes to revise its FOIA regulations to more clearly reflect the current CIA organizational structure, record system configuration, and FOIA policies and practices and to eliminate ambiguous, redundant and obsolete regulatory provisions. These proposed regulatory changes are intended to enhance the administration and operations of the Agency's FOIA program by increasing the transparency and clarity of the regulations governing the Agency's FOIA program.

The proposed regulations would establish the positions and responsibilities of the Agency's Chief FOIA Officer, the FOIA Public Liaison and the FOIA Requester Service Center in the Agency's public FOIA regulations. Following the promulgation of Executive Order 13392, the Director, Central Intelligence Agency (D/CIA) designated a senior official to serve as the CIA's Chief FOIA Officer with Agency-wide responsibility for efficient and appropriate compliance with the FOIA. In addition, the Agency created a FOIA Requester Service Center and designated FOIA Public Liaisons to enhance the operation of the Agency's FOIA program and the Agency's responsiveness to FOIA requesters and the public. Consistent with both Executive Order 13392 and the “Openness Promotes Effectiveness in our National Government Act of 2007,” the proposed regulations incorporate into the CIA's public FOIA regulations the important functions the Agency's Chief FOIA Officer, the FOIA Public Liaison and the FOIA Requester Service Center have been performing for the past several years. By formally recognizing the key roles these entities play in the Agency's FOIA processes, the proposed regulations promote the administration of a citizen-centered FOIA program and provide the public with important information about the assistance these entities can offer to FOIA requesters and the public.

The proposed regulations would eliminate current regulatory provisions that have had the potential to cause confusion and ambiguity and would more clearly reflect the Agency's current FOIA policies and practices.

The proposed regulations would clarify and confirm the Agency's current FOIA practices of processing FOIA requests and appeals on a “first in, first out” basis using two or more processing queues based on the amount of work or time or both involved and of moving a FOIA request to the front of the processing queue when the Agency has granted that requester's request for expedited processing.

With these proposed changes the Agency's public FOIA regulations would clarify the responsibility of the Agency Release Panel to review appeals of certain Agency FOIA determinations.

The proposed regulation would increase the per page fee for copies.

List of Subjects in 32 CFR Part 1900

Classified information, Freedom of information.

As stated in the preamble, the CIA proposes to amend 32 CFR part 1900 as follows:

PART 1900—PUBLIC ACCESS TO CIA RECORDS UNDER THE FREEDOM OF INFORMATION ACT

1. The authority citation for part 1900 is revised to read as follows:

Authority: 50 U.S.C. 401-442; 50 U.S.C. 403a-403v; 5 U.S.C. 552; Executive Order 13392, 70 FR 75373-75377, 3 CFR, 2006 Comp., p. 216-200.

2. Amend § 1900.02 by adding paragraphs (p), (q), (r), and (s) to read as follows:

§ 1900.02 Definitions.

* * * * *

(p) Chief FOIA Officer means the senior CIA official, at the CIA's equivalent of the Assistant Secretary level, who has been designated by the D/CIA to have Agency-wide responsibility for the CIA's efficient and appropriate compliance with the FOIA.

(q) FOIA Requester Service Center means the office within the CIA where a FOIA requester may direct inquiries regarding the status of a FOIA request or an expression of interest he or she filed at the CIA, requests for guidance on narrowing or further defining the nature or scope of his or her FOIA request, and requests for general information about the FOIA program at the CIA.

(r) FOIA Public Liaison means the CIA supervisory official(s) who shall assist in the resolution of any disputes between a FOIA requester and the Agency and to whom a FOIA requester may direct a concern regarding the service he or she has received from CIA and who shall respond on behalf of the Agency as prescribed in these regulations.

(s) Agency Release Panel (ARP) means the Agency's forum for reviewing information review and release policy, the adequacy of resources available to all Agency declassification and release programs, and hearing appeals in accordance with this section.

3. Revise § 1900.03 to read as follows:

§ 1900.03 Contact for general information and requests.

(a) To file a FOIA request, an expression of interest, or an administrative appeal, please direct your written communication to the Information and Privacy Coordinator, Central Intelligence Agency, Washington, DC 20505, or via facsimile at (703) 613-3007 in accordance with the requirements of these regulations.

(b) To inquire about the status of a FOIA request or an expression of interest, to request guidance on narrowing or further defining the nature or scope of a FOIA request, or to obtain general information about the FOIA program at CIA, please direct your inquiry to the CIA FOIA Requester Service Center, Central Intelligence Agency, Washington, DC 20505, via facsimile at (703) 613-3007, or via telephone at (703) 613-1287. Collect calls cannot be accepted.

(c) If you are a FOIA requester with a concern about the service you received from the CIA or a member of the public with a suggestion, comment, or complaint regarding the Agency's administration of the FOIA, please direct your concern to the FOIA Public Liaison, Central Intelligence Agency, Washington, DC 20505, via facsimile at 703-613-3007, or via telephone at 703-613-1287. Collect calls cannot be accepted.

4. Revise § 1900.04 to read as follows:

§ 1900.04 Suggestions and complaints.

The CIA remains committed to administering a results-oriented and citizen-centered FOIA program, to processing requests in an efficient, timely and appropriate manner, and to working with requesters and the public to continuously improve Agency FOIA operations. The Agency welcomes suggestions, comments, or complaints regarding its administration of the FOIA. Members of the public shall address all such communications to the FOIA Public Liaison as specified at 32 CFR 1900.03. The Agency will respond as determined feasible and appropriate under the circumstances. Requesters seeking to raise concerns about the service received from the CIA FOIA Requester Service Center may contact the FOIA Public Liaison after receiving an initial response from the CIA FOIA Requester Service Center. The FOIA Public Liaison shall assist in the appropriate resolution of any disputes between a FOIA requester and the Agency.

§ 1900.11 [Amended]

5. Revise § 1900.11 to read as follows:

§ 1900.11 Preliminary information.

Members of the public shall address all communications as specified at 32 CFR 1900.03. Any Central Intelligence Agency (CIA) office or CIA personnel receiving a written communication from a member of the public that requests information or that references the FOIA shall expeditiously forward the communication to the CIA Information and Privacy Coordinator. The CIA will not accept a request for information under the FOIA or an appeal of an adverse determination submitted by a member of the public who owes outstanding fees for information services at this or other federal agencies and will terminate the processing of any pending requests submitted by such persons to the CIA or to another agency.

6. Revise § 1900.12 to read as follows:

§ 1900.12 Requirements as to form and content.

(a) Required information. Requesters should identify their written communication as a request for information under the FOIA. Requests must reasonably describe the records of interest sought by the requester. This means that the records requested must be described sufficiently so that Agency professionals who are familiar with the subject area of the request are able, with a reasonable amount of effort, to determine which particular records are within the scope of the request. All requesters are encouraged to be as specific as possible in describing the records they are seeking by including the date or date range, the title of the record, the type of record (such as memorandum or report), the specific event or action to which the record refers, and the subject matter, but requests for electronic communications must specify the dates and parties. Extremely broad or vague requests or requests requiring research do not satisfy this requirement.

(b) Additional information for fee determination. In addition, a requester should provide sufficient information to allow us to determine the appropriate fee category. A requester should also provide an agreement to pay all applicable fees or fees not to exceed a certain amount or request a fee waiver.

(c) Otherwise. The CIA FOIA Requester Service Center may contact a requester to seek additional or clarifying information or to assist the requester in reformulating his or her request when the request does not meet the requirements of these regulations. A requester seeking to narrow or further define the nature or scope of his or her request may contact the CIA FOIA Requester Service Center as specified at 32 CFR 1900.03.

§ 1900.13 [Amended]

7. In § 1900.13 amend paragraph (g) in the table by revising the figure “.10” to read “.50” in entry for “Photocopy (standard or legal)”.

8. Amend § 1900.33 by revising paragraph (b) to read as follows:

§ 1900.33 Allocation of resources; agreed extensions of time.

* * * * *

(b) Discharge of FOIA responsibilities. The Chief FOIA Officer shall monitor the Agency's compliance with the requirements of the FOIA and administration of its FOIA program. The Chief FOIA Officer shall keep the D/CIA, the General Counsel of the CIA, and other officials appropriately informed regarding the Agency's implementation of the FOIA and make recommendations, as appropriate. The Chief FOIA Officer shall designate one or more CIA FOIA Public Liaisons. The CIA FOIA Public Liaison shall be responsible for assisting in reducing delays, increasing transparency and understanding of the status of requests, and assisting in the resolution of disputes between requesters and the Agency. Components shall exercise due diligence in their responsibilities under the FOIA. Components must allocate a reasonable level of resources to process accepted FOIA requests and administrative appeals on a “first in, first out” basis using two or more processing queues based on the amount of work or time or both involved to ensure that smaller as well as larger cases receive equitable attention, except that when a request for expedited processing has been granted under these regulations components must move that request to the front of the processing queue.

* * * * *

§ 1900.34 [Amended]

9. Amend § 1900.34 by removing and reserving paragraph (a).

10. Revise § 1900.41 to read as follows:

§ 1900.41 Designation of authority to hear appeals.

(a) Agency Release Panel (ARP). Appeals of initial adverse decisions under the FOIA shall be reviewed by the ARP which shall issue the final Agency decision.

(b) ARP Membership. The ARP is chaired by the Chief, Information Review and Release Group, Information Management Services, and composed of the Information Review Officers from the various Directorates and the Director, Central Intelligence Agency area, as well as the representatives of the various release programs and offices. The Information and Privacy Coordinator also serves as Executive Secretary of the ARP.

§ 1900.43 [Removed and Reserved]

11. Remove and reserve § 1900.43.

12. Amend § 1900.44 by revising paragraph (b) and removing and reserving paragraph (c).

The revision reads as follows:

§ 1900.44 Action by appeals authority.

* * * * *

(b) Decision: The ARP shall meet on a regular schedule and may take action when a simple majority of the total membership is present. Issues shall be decided by a majority of the members present. In all cases of a divided vote, before the decision of the ARP becomes final, any member of the ARP may by written memorandum to the Executive Secretary of the ARP, refer such matters to the Director, Information Management Services (D/IMS) for decision. In the event of a disagreement with any decision by D/IMS, Directorate heads may appeal to the Associate Deputy Director, CIA (ADD) for resolution. The final Agency decision shall reflect the vote of the ARP, unless changed by the D/IMS or the ADD.

13. Revise § 1900.45 to read as follows:

§ 1900.45 Notification of decision and right of judicial review.

The Executive Secretary of the ARP shall promptly prepare and communicate the final Agency decision to the requester. With respect to any decision to deny requested information, or any decision that is deemed to be a denial of requested information, that correspondence shall state the reasons for the decision, and include a notice of a right to judicial review.

Dated: August 10, 2011.
Joseph W. Lambert,
Director, Information Management Services.

[FR Doc. 2011-21577 Filed 9-22-11; 8:45 am]

BILLING CODE 6310-02-P